ENVIRONMENTAL PROTECTION AGENCY

40 CFR Part 271

[FRL -7029-2 ]

Vermont: Final Authorization of State Hazardous Waste Management Program Revision

AGENCY: Environmental Protection Agency (EPA).

ACTION: Proposed rule.

SUMMARY: Vermont has adopted the rule for the Project XL Site-Specific Rulemaking for the IBM Semiconductor Manufacturing Facility in Essex Junction, Vermont. This rule was published by the EPA on September 12, 2000 (65 FR 59955). The State applied to EPA for Final authorization of the revision to its hazardous waste program under the Resource Conservation and Recovery Act (RCRA). EPA proposes to grant final authorization to Vermont. In the “Rules and Regulations” section of this Federal Register, EPA is authorizing the change by an immediate final rule. EPA did not make a proposal prior to the immediate final rule because we believe this action is not controversial and do not expect comments that oppose it. We have explained the reasons for this authorization in the preamble to the immediate final rule. Unless we receive written comments which oppose this authorization during the comment period, the immediate final rule will become effective on the date it establishes, and we will not take further action on this proposal. If we receive comments that oppose this action, we will withdraw the immediate final rule and it will not take effect. We will then respond to public comments in a later final rule based on this proposal. You may not have another opportunity for comment. If you want to comment on this action, you must do so at this time.

DATES: Send your written comments by September 17, 2001.

ADDRESSES: Send written comments to Robin Biscaia, Hazardous Waste Unit, EPA New England, One Congress Street, Suite 1100 (CHW), Boston, MA 02114-2023; Phone number: (617) 918-1642. You can examine copies of the materials submitted by Vermont during normal business hours at the following locations: EPA New England Library, One Congress Street, Suite 1100 (LIB), Boston, MA 02114-2023; Phone number: (617) 918-1990; Business hours: 9:00 AM to 4:00 PM; or the Vermont Agency of Natural Resources, 103 South Main Street—West Office Building, Waterbury, VT 05671-0404; Phone number: (802) 241-3888; Business hours: 7:45 A.M. to 4:30 P.M.

FOR FURTHER INFORMATION CONTACT: Robin Biscaia 617-918-1642 and at the above address.

SUPPLEMENTARY INFORMATION: For additional information, please see the immediate final rule published in the “Rules and Regulations” section of this Federal Register.

Dated: July 17, 2001.
Carl Dierker,
Acting Regional Administrator, EPA New England.

[FR Doc. 01-20047 Filed 8-15-01; 8:45 am]

BILLING CODE 6560-50-P